FEDERAL MARITIME COMMISSION

[Docket No. 22-35]

M.E. Dey & Co., Inc. Complainant v. Hapag-Lloyd AG, and Hapag-Lloyd (America) LLC, Respondents and Third-Party Complaints v. CSX Transportation, Inc. Third-Party Respondent; Notice of Filing of Third-Party Complaint

Notice is given that a Third-Party Complaint has been filed with the Federal Maritime Commission (“Commission”) by Hapag-Lloyd AG and Hapag-Lloyd (America) LLC (“Respondents and “Third-Party Complainants”) against CSX Transportation, Inc. (“CSX Transportation” or “Third-Party Respondent”) in Docket 22-35. The Third-Party Complaint identifies Complainant M.E. Dey & Co. as a non-vessel-operating common carrier organized and existing under the laws of Wisconsin with a principal place of business in Milwaukee, Wisconsin, and Third-Party Complainants Hapag-Lloyd AG as a global ocean carrier with headquarters in Hamburg, Germany, and Hapag-Lloyd (America) LLC as a United States subsidiary and agent of Hapag AG located in Atlanta, Georgia. In addition, the Third-Party Complaint identifies CSX Transportation as a rail and intermodal transportation carrier with a headquarters in Jacksonville, Florida.

Third-Party Complainants allege that, as a result of Third-Party Respondent's assessment, billing, and collection of the storage charges at issue in the Initial Complaint, Third-Party Complainants have been sued by Complainant for violations of the Shipping Act and the Ocean Shipping Reform Act of 2022. In addition, Third-Party Complainants allege that, because the charges in question were assessed, billed, and collected solely by CSX Transportation without prior notice to or approval of Third-Party Complainants, in the event that Third-Party Complainants are found to be in violation of 46 U.S.C. 41102(c) and/or 46 U.S.C. 41104(a)(14), CSX Transportation is likewise in violation of 46 U.S.C. 41102(c) and/or or 46 U.S.C. 41104(a)(14) and is liable to Third-Party Complainants for whatever reparations and other relief Third-Party Complainants may be ordered to pay to Complainant. An answer to the Third-Party Complaint is due to be filed with the Commission within twenty-five (25) days after the date of service. The full text of the Third-Party Complaint can be found in the Commission's Electronic Reading Room at https://www2.fmc.gov/readingroom/proceeding/22-35/.

This proceeding has been assigned to Office of Administrative Law Judges. The initial decision of the presiding officer in this proceeding shall be issued by December 26, 2023, and the final decision of the Commission shall be issued by July 10, 2024.

Served: May 11, 2023.
William Cody,
Secretary.

[FR Doc. 2023-10454 Filed 5-16-23; 8:45 am]

BILLING CODE 6730-02-P